DEPARTMENT OF ENERGY

Federal Energy Regulatory Commission

[Docket No. EG00-105-000, et al.]

Texas Independent Energy Operating Company, LLC, et al. Electric Rate and Corporate Regulation Filings

March 6, 2000.

Take notice that the following filings have been made with the Commission:

[Docket No. EG00-105-000]

1. Texas Independent Energy Operating Company, LLC

Take notice that on March 1, 2000, Texas Independent Energy Operating Company, LLC (Applicant), with its principal office at 4100 Spring Valley Road, Suite 1001, Dallas, Texas 75244 filed with the Federal Energy Regulatory Commission an application for determination of exempt wholesale generator status pursuant to Part 365 of the Commission's regulations.

Applicant is a Delaware limited liability company. Applicant will be engaged directly, or indirectly through a Section 2(a)(11)(B) affiliate, and exclusively in operating a 1000 MW natural gas-fired generating facility and certain interconnection facilities necessary to effect the sale of electric energy at wholesale located in Ector County, Texas and a 1000 MW natural gas-fired generating facility and certain interconnection facilities necessary to effect the sale of electric energy at wholesale located in Guadalupe County, Texas; selling electric energy at wholesale; and engaging in project development activities with respect thereto.

Comment date: March 27, 2000, in accordance with Standard Paragraph E at the end of this notice. The Commission will limit its consideration of comments to those that concern the adequacy or accuracy of the application.

[Docket No. EG00-106-000]

2. Doyle I, L.L.C.

Take notice that on February 28, 2000, Doyle I, L.L.C. (Doyle), a limited liability company with its principal place of business at 1400 Smith Street, Houston, Texas 77002, filed with the Federal Energy Regulatory Commission (Commission) an application for determination of exempt wholesale generator status pursuant to Part 365 of the Commission's regulations.

Doyle states that it will be engaged directly and exclusively in the business of owning and operating a natural-gas fired, 342 MW generation facility (Facility) located in Walton, Georgia. Doyle will sell the Facility's capacity exclusively at wholesale.

Comment date: March 27, 2000, in accordance with Standard Paragraph E at the end of this notice. The Commission will limit its consideration of comments to those that concern the adequacy or accuracy of the application.

[Docket No. EG00-107-000]

3. DTE Georgetown, LLC

Take notice that on March 1, 2000, DTE Georgetown, LLC (DTE Georgetown), a Delaware limited liability corporation with its principal place of business at 425 South Main Street, Suite 201, Ann Arbor, MI 48107, filed with the Federal Energy Regulatory Commission an application for determination of exempt wholesale generator status pursuant to Part 365 of the Commission's regulations.

Comment date: March 27, 2000, in accordance with Standard Paragraph E at the end of this notice. The Commission will limit its consideration of comments to those that concern the adequacy or accuracy of the application.

[Docket No. ER98-2683-006]

4. Nicole Energy Services, Inc.

Take notice that on March 1, 2000, Nicole Energy Services, Inc. filed a quarterly report for information only.

[Docket No. ER99-933-002]

5. California Power Exchange Corporation

Take notice that on March 1, 2000, the California Power Exchange Corporation (CalPX), tendered for filing a corrected refund report in the above-referenced docket.

Copies of the filing were served on each of CalPX's participants and on the official service list in this docket.

Comment date: March 22, 2000, in accordance with Standard Paragraph E at the end of this notice.

6. Calcasieu Power, LLC

[Docket No. ER00-1049-000]

Take notice that on March 1, 2000, Calcasieu Power, LLC tendered for filing pursuant to Rule 205, 18 CFR 385.205, a Revised FERC Electric Rate Schedule No. 1 in compliance with the Commission's order dated February 23, 2000.

Comment date: March 22, 2000, in accordance with Standard Paragraph E at the end of this notice.

7. Reliant Energy HL&P

[Docket No. ER00-1413-000]

Take notice that on February 25, 2000, Reliant Energy HL&P tendered for filing a revised executed transmission service agreement (TSA) with Tex-La Electric Cooperative of Texas, Inc., for Long-Term Firm Transmission Service under Reliant Energy HL&P's FERC Electric Tariff, Third Revised Volume No. 1, for Transmission Service To, From and Over Certain HVDC Interconnections. The executed TSA supersedes the unexecuted TSA filed in the above-captioned docket on January 31, 2000.

Reliant Energy HL&P has requested an effective date for the TSA of January 1, 2000.

Copies of the filing were served on Tex-La and the Public Utility Commission of Texas.

Comment date: March 17, 2000, in accordance with Standard Paragraph E at the end of this notice.

8. Delano Energy Company, Inc.

[Docket No. ER00-891-001]

Take notice that on February 29, 2000, Delano Energy Company, Inc. (Delano) tendered a compliance filing pursuant to the Commission's February 9 Order accepting Delano's request to engage in wholesale electric power and energy transactions at market-based rates (Market Rate Tariff) and directing Delano to limit its authority to sell ancillary services to sales into the markets administered by the California ISO.

Comment date: March 21, 2000, in accordance with Standard Paragraph E at the end of this notice.

9. PJM Interconnection, L.L.C.

[Docket No. ER99-1618-003]

Take notice that on March 1, 2000, PJM Interconnection, L.L.C. (PJM), tendered for filing an amendment to Schedule 11 (PJM Capacity Credit Markets) of the Amended and Restated Operating Agreement of PJM Interconnection, L.L.C. extending the expiration date of the mandatory Sell Offers and Buy Bids provision until May 31, 2001.

Copies of this filing were served upon all PJM Members and the electric regulatory commissions in the PJM Control Area.

Comment date: March 22, 2000, in accordance with Standard Paragraph E at the end of this notice.

10. California Power Exchange Corporation

[Docket No. ER00-1642-000]

Take notice that on March 1, 2000, the California Power Exchange Corporation, on behalf of its CalPX Trading Services Division (CTS), tendered for filing an amendment to its February 17, 2000, filing in this proceeding. The purpose of the amendment is to make the filing consistent with the Commission's February 24, 2000, Order in Docket No. ER00-951-000.

CTS continues to request the same effective dates as it requested in the February 17, 2000 filing. Specifically, CTS requests waiver of notice to permit a March 1, 2000 effective date for the changes pertaining to providing notice on the new software. CTS requests a May 1, 2000 effective date for the bulk of the filing.

Copies of the filing were served upon the CTS' jurisdictional customers and the California Public Utilities Commission.

Comment date: March 22, 2000, in accordance with Standard Paragraph E at the end of this notice.

11. Entergy Services, Inc.

[Docket No. ER00-1743-000]

Take notice that on March 1, 2000, Entergy Services, Inc., on behalf of Entergy Corporation and the five Entergy Operating Companies: Entergy Arkansas, Inc., Entergy Gulf States, Inc., Entergy Louisiana, Inc., Entergy Mississippi, Inc., and Entergy New Orleans, Inc. (together Entergy), tendered for filing (1) a Pro Forma Interconnection and Operating Agreement and (2) Procedures and Requirements for Adding Generation to Entergy's Transmission System.

Entergy has requested that the Pro Forma Interconnection Agreement and Interconnection Procedures become effective at the earliest possible date.

Comment date: March 22, 2000, in accordance with Standard Paragraph E at the end of this notice.

12. Pacific Gas and Electric Company

[Docket No. ER00-1744-000]

Take notice that on March 1, 2000, Pacific Gas and Electric Company (PG&E), tendered for filing several agreements between PG&E and East Bay Municipal Utility District (EBMUD)(collectively, Parties) providing for special facilities and the parallel operation of EBMUD's Pardee and Camanche Powerhouses and PG&E's electrical system. PG&E is filing the following agreements for each of the Pardee and Camanche Powerhouses, all dated February 15, 2000: (1) a Generator Special Facilities Agreement (GSFA); (2) a Generator Interconnection Agreement; and (3) a Letter Agreement Regarding Special Facilities and Interconnection.

The GSFA's permit PG&E to recover the ongoing costs associated with owning, operating and maintaining the Special Facilities, including the cost of any alterations and additions. As detailed in the Special Facilities Agreements, PG&E proposes to charge EBMUD a monthly Cost of Ownership Charge equal to the rate for transmission-level, customer-financed facilities in PG&E's currently effective Electric Rule 2, as filed with the California Public Utilities Commission (CPUC). PG&E's currently effective rate of 0.31% for Pardee Powerhouse or 0.307% for Camanche Powerhouse for transmission-level, customer-financed Special Facilities is contained in the CPUC's Advice Letter 1960-G/1587-E, effective August 5, 1996, a copy of which is included as Attachment 6 of this filing.

PG&E has requested permission to use automatic rate adjustments whenever the CPUC authorizes a new Electric Rule 2 Cost of Ownership Rate for transmission-level, customer-financed Special Facilities, but has agreed to cap the rate at 0.52% per month.

Copies of this filing have been served upon EBMUD and the CPUC.

Comment date: March 22, 2000, in accordance with Standard Paragraph E at the end of this notice.

13. PJM Interconnection, L.L.C.

[Docket No. ER00-1745-000]

Take notice that on March 1, 2000, PJM Interconnection, L.L.C. (PJM), tendered for filing two executed umbrella service agreements for network integration transmission service under state required retail access programs. The agreements are with Total Gas & Electric, Inc., and Agway Energy Services-PA, Inc.

Copies of this filing were served upon the parties to the service agreements and the state commissions within the PJM control area.

Comment date: March 22, 2000, in accordance with Standard Paragraph E at the end of this notice.

14. DTE Georgetown, LLC

[Docket No. ER00-1746-000]

Take notice that on March 1, 2000, DTE Georgetown, LLC (Georgetown) tendered for filing a petition for authorization to make sales of capacity and energy at market-based rates, and a request for certain related blanket authorizations and waivers.

Comment date: March 22, 2000, in accordance with Standard Paragraph E at the end of this notice.

15. American Electric Power Service Corporation

[Docket No. ER00-1747-000]

Take notice that on March 1, 2000, the American Electric Power Service Corporation (AEPSC), tendered for filing executed Firm and Non-Firm Point-to-Point Transmission Service Agreements for El Paso Merchant Energy, L.P. and a Non-Firm Point-to-Point Transmission Service Agreement for Conectiv Energy Supply, Inc. The agreements are pursuant to the AEP Companies' Open Access Transmission Service Tariff (OATT). The OATT has been designated as FERC Electric Tariff Original Volume No. 4, effective July 9, 1996.

AEPSC requests waiver of notice to permit the Service Agreements to be made effective for service billed on and after February 1, 2000.

AEPSC also requests termination of one service agreement executed by Sonat Power Marketing, L.P., under AEP Companies' FERC Electric Tariff Original Volume No. 4. El Paso Merchant Energy, L.P. (EPME), the successor in interest to Sonat Power Marketing, L.P., has requested the termination of the service agreement.

A copy of the filing was served upon the Parties and the state utility regulatory commissions of Indiana, Kentucky, Michigan, Ohio, Tennessee, Virginia and West Virginia.

Comment date: March 22, 2000, in accordance with Standard Paragraph E at the end of this notice.

16. Southwestern Electric Power Company

[Docket No. ER00-1748-000]

Take notice that on March 1, 2000, Southwestern Electric Power Company (SWEPCO), tendered for filing the final return on common equity (Final ROE) to be used in establishing final redetermined formula rates for wholesale service in Contract Year 1999 to Northeast Texas Electric Cooperative, Inc., the City of Bentonville, Arkansas, Rayburn Country Electric Cooperative, Inc., Cajun Electric Power Cooperative, Inc., Tex-La Electric Cooperative of Texas, Inc., the City of Hope, Arkansas, and East Texas Electric Cooperative, Inc. SWEPCO provides service to these Customers under contracts which provide for periodic changes in rates and charges determined in accordance with cost-of-service formulas, including a formulaic determination of the return on common equity.

In accordance with the provisions of the formula rate contracts, SWEPCO seeks an effective date of January 1, 1999 and, accordingly, seeks waiver, to the extent necessary, of the Commission's notice requirements.

Copies of the filing were served on the affected wholesale Customers, the Public Utility Commission of Texas, the Louisiana Public Service Commission and the Arkansas Public Service Commission.

Comment date: March 22, 2000, in accordance with Standard Paragraph E at the end of this notice.

17. Sithe Maryland Holdings LLC, Sithe New Jersey Holdings LLC and Sithe Pennsylvania Holdings LLC

[Docket No. ER00-1749-000]

Take notice that on March 1, 2000, Sithe Maryland Holdings LLC, Sithe New Jersey Holdings LLC and Sithe Pennsylvania Holdings LLC (collectively, the Sithe PJM Companies), tendered for filing a Notification of Change in Status and Petition for Acceptance of Pro Forma Revised Rate Schedules and Supplements, by which the Sithe PJM Companies provide notice that upon the closing of the sale of the equity interests in Sithe Maryland, Sithe New Jersey and Sithe Pennsylvania to Reliant Energy Power Generation, Inc., or one or more of its direct or indirect, wholly-owned subsidiaries, the Sithe PJM Companies' successors, Reliant Energy Maryland Holdings, LLC, Reliant Energy New Jersey Holdings, LLC and Reliant Energy Pennsylvania Holdings, LLC, will be affiliated with an electric utility with a franchised service territory and various exempt wholesale generators.

Due to the affiliation post-transaction with a traditional electric utility, the Sithe PJM Companies are submitting for filing pro forma revised FERC Electric Rate Schedules Nos. 1 and 2 and Codes of Conduct.

Comment date: March 22, 2000, in accordance with Standard Paragraph E at the end of this notice.

18. PJM Interconnection, L.L.C.

[Docket No. ER00-1750-000]

Take notice that on March 1, 2000, PJM Interconnection, L.L.C. (PJM), tendered for filing 4 executed service agreements for network integration transmission service and for point-to-point transmission service under the PJM Open Access Transmission Tariff.

Copies of this filing were served upon the parties to the service agreements and the state commissions within the PJM control area.

Comment date: March 22, 2000, in accordance with Standard Paragraph E at the end of this notice.

19. Doyle I, L.L.C.

[Docket No. ER00-1751-000]

Take notice that on March 1, 2000, Doyle I, L.L.C., pursuant to Section 205 of the Federal Power Act, 16 U.S.C. § 824d (1994), and section 35.12 of the Commission's Regulations, 18 CFR 35.12, tendered for filing an initial rate schedule, FERC Electric Rate Schedule No. 1, for the sale of capacity at cost-based rates, applicable to a Power Purchase and Sale Agreement, as amended, between Doyle and Oglethorpe Power Corporation (Oglethorpe).

Doyle requests that the Commission grant waivers of certain regulatory requirements under Subpart A of 18 CFR Part 35, as described below. In addition, Doyle requests waiver of the 60-day prior notice requirement to permit its initial rate schedule to be effective March 15, 2000.

Copies of the filing were served upon Oglethorpe and on the Georgia Public Service Commission.

Comment date: March 22, 2000, in accordance with Standard Paragraph E at the end of this notice.

20. Entergy Services, Inc.

[Docket No. ER00-1752-000]

Take notice that on March 1, 2000, Entergy Services, Inc. (Entergy Services), on behalf of Entergy Arkansas, Inc., Entergy Gulf States, Inc., Entergy Louisiana, Inc., Entergy Mississippi, Inc., and Entergy New Orleans, Inc. (collectively, the Entergy Operating Companies), tendered for filing an Assignment and Consent Agreement between Entergy Services, Ralph R. Mabey as Chapter 11 Trustee for Cajun Electric Power Cooperative, Inc., and Louisiana Generating LLC.

Comment date: March 22, 2000, in accordance with Standard Paragraph E at the end of this notice.

21. Duquesne Light Company

[Docket No. ER00-1753-000]

Take notice that March 1, 2000, Duquesne Light Company (DLC), tendered for filing a Service Agreement dated February 29, 2000 with Cargill-Alliant, LLC under DLC's Open Access Transmission Tariff (Tariff). The Service Agreement adds Cargill-Alliant, LLC as a customer under the Tariff.

DLC requests an effective date of February 29, 2000 for the Service Agreement.

Comment date: March 22, 2000, in accordance with Standard Paragraph E at the end of this notice.

22. Duquesne Light Company

[Docket No. ER00-1754-000]

Take notice that March 1, 2000, Duquesne Light Company (DLC), tendered for filing a Service Agreement dated February 29, 2000, with Cargill-Alliant LLC under DLC's Open Access Transmission Tariff (Tariff). The Service Agreement adds Cargill-Alliant LLC as a customer under the Tariff.

DLC requests an effective date of February 29, 2000, for the Service Agreement.

Comment date: March 22, 2000, in accordance with Standard Paragraph E at the end of this notice.

23. Duquesne Light Company

[Docket No. ER00-1755-000]

Take notice that on March 1, 2000, Duquesne Light Company (DLC), tendered for filing a Service Agreement dated February 29, 2000 with FirstEnergy Corporation under DLC's Open Access Transmission Tariff (Tariff). The Service Agreement adds FirstEnergy Corporation as a customer under the Tariff.

DLC requests an effective date of February 29, 2000, for the Service Agreement.

Comment date: March 22, 2000, in accordance with Standard Paragraph E at the end of this notice.

24. Duquesne Light Company

[Docket No. ER00-1756-000]

Take notice that March 1, 2000, Duquesne Light Company (DLC), tendered for filing a Service Agreement dated February 29, 2000, with FirstEnergy Corporation under DLC's Open Access Transmission Tariff (Tariff). The Service Agreement adds FirstEnergy Corporation as a customer under the Tariff.

DLC requests an effective date of February 29, 2000, for the Service Agreement.

Comment date: March 21, 2000, in accordance with Standard Paragraph E at the end of this notice.

25. Duquesne Light Company

[Docket No. ER00-1757-000]

Take notice that March 1, 2000, Duquesne Light Company (DLC), tendered for filing a Service Agreement dated December 10, 1999 with Allegheny Energy Supply Company under DLC's Open Access Transmission Tariff (Tariff). The Service Agreement adds Allegheny Energy Supply Company as a customer under the Tariff.

DLC requests an effective date of February 29, 2000, for the Service Agreement.

Comment date: March 22, 2000, in accordance with Standard Paragraph E at the end of this notice.

26. Duquesne Light Company

[Docket No. ER00-1758-000]

Take notice that March 1, 2000, Duquesne Light Company (DLC), tendered for filing a Service Agreement dated December 10, 1999 with Allegheny Energy Supply Company under DLC's Open Access Transmission Tariff (Tariff). The Service Agreement adds Allegheny Energy Supply Company as a customer under the Tariff.

DLC requests an effective date of February 29, 2000, for the Service Agreement.

Comment date: March 22, 2000, in accordance with Standard Paragraph E at the end of this notice.

27. Duquesne Light Company

[Docket No. ER00-1759-000]

Take notice that March 1, 2000, Duquesne Light Company (DLC), tendered for filing a Service Agreement dated February 29, 2000 with Conectiv Energy Supply, Inc., under DLC's Open Access Transmission Tariff (Tariff). The Service Agreement adds Conectiv Energy Supply, Inc. as a customer under the Tariff.

DLC requests an effective date of February 29, 2000, for the Service Agreement.

Comment date: March 22, 2000, in accordance with Standard Paragraph E at the end of this notice.

28. Ameren Services Company

[Docket No. ER00-1760-000]

Take notice that on March 1, 2000, Ameren Services Company (Ameren Services), tendered for filing an unexecuted Network Operating Agreement and an unexecuted Service Agreement for Network Integration Transmission Service between Ameren Services and the City of Farmington, Missouri (Farmington). Ameren Services asserts that the purpose of the Agreements is to permit Ameren Services to provide transmission service to Farmington pursuant to Ameren's Open Access Tariff.

Comment date: March 22, 2000, in accordance with Standard Paragraph E at the end of this notice.

29. Ameren Services Company

[Docket No. ER00-1761-000]

Take notice that on March 1, 2000, Ameren Services Company (Ameren Services), tendered for filing an unexecuted Network Operating Agreement and an unexecuted Service Agreement for Network Integration Transmission Service between Ameren Services and the City of Owensville, Missouri (Owensville). Ameren Services asserts that the purpose of the Agreements is to permit Ameren Services to provide transmission service to Owensville pursuant to Ameren's Open Access Tariff.

Comment date: March 22, 2000, in accordance with Standard Paragraph E at the end of this notice.

30. Ameren Services Company

[Docket No. ER00-1762-000]

Take notice that on March 1, 2000, Ameren Services Company (Ameren Services), tendered for filing an unexecuted Network Operating Agreement and an unexecuted Service Agreement for Network Integration Transmission Service between Ameren Services and City Light & Power, City of Fredericktown, Missouri (Fredericktown). Ameren Services asserts that the purpose of the Agreements is to permit Ameren Services to provide transmission service to Fredericktown pursuant to Ameren's Open Access Tariff.

Comment date: March 22, 2000, in accordance with Standard Paragraph E at the end of this notice.

31. Cleco Utility Group Inc.

[Docket No. ER00-1763-000]

Take notice that on March 1, 2000, Cleco Utility Group Inc., Transmission services (CLECO), tendered for filing their service agreement for short term firm point-to-point transmission services under its Open Access Transmission Tariff with Aquila Energy Marketing Corporation.

CLECO requests an effective date of March 7, 2000.

Comment date: March 22, 2000, in accordance with Standard Paragraph E at the end of this notice.

32. Dayton Power and Light Company

[Docket No. ER00-1764-000]

Take notice that on March 1, 2000, Dayton Power and Light (DP&L), tendered for filing a Transmission and Ancillary Service Reassignment Tariff.

Comment date: March 22, 2000, in accordance with Standard Paragraph E at the end of this notice.

33. Maine Public Service Company

[Docket No. ER00-1765-000]

Take notice that on March 1, 2000, Maine Public Service Company (Maine Public), tendered for filing an executed Service Agreement for Firm Point-To-Point Transmission Service under Maine Public's open access transmission tariff with WPS Energy Services, Inc.

Comment date: March 22, 2000, in accordance with Standard Paragraph E at the end of this notice.

34. Tampa Electric Company

[Docket No. ER00-1766-000]

Take notice that on March 1, 2000, Tampa Electric Company (Tampa Electric) tendered for filing a service agreement with Southern Company Services, Inc. (Southern) under Tampa Electric's market-based sales tariff.

Tampa Electric requests that the service agreement be made effective on February 3, 2000.

Copies of the filing have been served on Southern and the Florida Public Service Commission.

Comment date: March 22, 2000, in accordance with Standard Paragraph E at the end of this notice.

35. Conectiv Energy Supply, Inc.

[Docket No. ER00-1770-000]

Take notice that March 1, 2000, Conectiv, on behalf of Conectiv Energy Supply, Inc. (CESI), Conectiv Delmarva Generation, LLC (CDG) and Conectiv Atlantic Generation, LLC (CAG), on March 1, 2000, tendered for filing under the provisions of Section 205 of the Federal Power Act: (1) CESI's updated market-based rate tariff, a notice of change in status and CESI's service agreements with Delmarva Power & Light Company and Atlantic City Electric Company; (2) CDG's market-based rate tariff and CDG's tolling agreement with CESI, which is a service agreement pursuant to this tariff; and (3) CAG's market-based rate tariff and CAG's service agreement with CESI under this tariff.

Conectiv requests that the Commission allow the rate schedule to become effective on May 1, 2000, which is sixty days after the filing and the date on which Conectiv hopes that the transfer of certain generating facilities to CDG and CAG will occur.

Copies of the filing were served upon Delmarva's wholesale requirements customers, and the Maryland People's Counsel, Maryland Public Service Commission, Delaware Public Service Commission, New Jersey Public Service Commission and the Virginia State Corporation Commission.

Comment date: March 22, 2000, in accordance with Standard Paragraph E at the end of this notice.

36. Atlantic City Electric Company, Delmarva Power and Light Company

[Docket Nos. ER00-1771-000 and ER00-1772-000]

Delmarva Power and Light Company Docket No. ER00-1772-000

Take notice that March 1, 2000, Atlantic City Electric Company (Atlantic) and Delmarva Power and Light Company (Delmarva), tendered for filing interconnection agreements between Atlantic and Conectiv Atlantic Generation, LLC (CAG); and between Delmarva and Conectiv Delmarva, LLC (CDG).

The Atlantic Interconnection Agreement contains terms and conditions for the interconnection of CAG and Atlantic facilities and the Delmarva Interconnection Agreement contains terms and conditions for the interconnection of CDG and Delmarva facilities.

Copies of the filing were served upon the Delaware Public Service Commission, the Maryland Public Service Commission, the State of New Jersey Board of Public Utilities and the Virginia State Corporation Commission, Energy Division, where the two utilities operate, Delmarva's jurisdictional requirements customers and Vineland, Dover, Easton and Old Dominion Electric Cooperative who are transmission dependent utilities taking interconnection service from Delmarva and Atlantic.

Comment date: March 22, 2000, in accordance with Standard Paragraph E at the end of this notice.

37. Oklahoma Gas and Electric Company

[Docket No. ER00-1785-000]

Take notice that on February 25, 2000, Oklahoma Gas and Electric Company (OG&E) tendered for filing a revised Open Access Transmission Tariff to provide Network Integration Transmission Service under the Southwest Power Pool, Inc. (SPP) Regional Tariff.

Copies of this filing have been served on the affected parties, the Oklahoma Corporation Commission and the Arkansas Public Service Commission.

Comment date: March 17, 2000, in accordance with Standard Paragraph E at the end of this notice.

38. Public Service Company of New Mexico

[Docket No. ER00-1786-000]

Take notice that on February 29, 2000, Public Service Company of New Mexico (PNM) filed as an amendment to the San Juan Project Participation Agreement (Participation Agreement) an Interim Invoicing Agreement with respect to invoicing for coal deliveries from San Juan Coal Company among PNM, Tucson Electric Power Company (TEP) and the other owners of interests in the San Juan Generating Station. This interim agreement effectively modifies the Participation Agreement for an interim period from January 1, 2000 through December 31, 2000.

PNM requests waiver of the Commission's notice requirements in order to allow the Interim Invoicing Agreement to be effective as of January 1, 2000.

Copies of this filing have been served upon the New Mexico Public Regulation Commission, TEP and each of the owners of an interest in the San Juan Generating Station.

Comment date: March 21, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-5992 Filed 3-10-00; 8:45 am]

BILLING CODE 6717-01-U